Title 3—

The President

Proclamation 9305 of July 29, 2015

50th Anniversary of Medicare and Medicaid

By the President of the United States of America

A Proclamation

On July 30, 1965, President Lyndon B. Johnson signed Medicare and Medicaid into law. Fifty years later, these programs have been woven into the fabric of our society—cornerstones of the fundamental belief that in America, health care is a right and not a privilege. Today, Medicare and Medicaid help tens of millions of Americans live longer, healthier lives and achieve economic security. Together, they have helped protect the quintessential American promise that opportunity, prosperity, and economic mobility are within reach for everyone who works hard and plays by the rules. On this anniversary, we pause to celebrate these landmark achievements and reflect on the ways they have improved our Nation.

As we commemorate two of America's greatest triumphs, we must not forget that the security they provide was not always guaranteed, nor was their progress inevitable or their success preordained. Before Medicare and Medicaid, only about half of all seniors had some form of insurance, and too many of our most vulnerable citizens—including children and people with disabilities—did not have access to quality, affordable care.

As a Nation, we chose to end that era. With hard work and determination, we fought to secure the health and peace of mind of millions of our people who previously lacked a basic measure of security. Medicare and Medicaid did not just make our country better; they reaffirmed its greatness and established a legacy that we must carry forward today. We must recognize that this work, though begun a half-century ago and continued over the decades that have followed, is not yet complete. For too many, quality, affordable health care is still out of reach—and we must recommit to finishing this important task.

We have made important strides in this fight, and today, health care is more affordable and accessible than ever before thanks to the Affordable Care Act. Because of this law, more than 16 million uninsured Americans have gained the security of health insurance, including through its expansion of Medicaid. Nearly 40 million people on Medicare have taken advantage of free preventive health services, and the law has saved over 9 million seniors on Medicare more than $15 billion in prescription drug costs. It has expanded the options for home and community-based services offered by Medicaid. And since I signed this law, we have extended the life of the Medicare Trust Fund by 13 years.

Since the Affordable Care Act became law, health care prices have risen at the lowest rate since Medicare and Medicaid were established, and as President, I am dedicated to building on this progress to ensure these programs are protected and strengthened. Earlier this year, I was proud to sign bipartisan legislation to permanently fix the Medicare physician payment system—creating a cost-effective way to compensate doctors based on how well they help their patients get and stay healthy. I am fighting to further extend the solvency of the Hospital Insurance trust fund, align payments more closely with the value of care, and build on the Affordable Care Act by closing the Medicare Part D donut hole for brand drugs by 2017. I am committed to reducing rapidly rising prescription drug costs in both Medicare and Medicaid. And every day, I am working to convince more Governors and State legislatures to take advantage of the Federal Government's financial support to expand Medicaid and cover the millions of additional Americans who would be eligible for quality, affordable health insurance.

Five decades ago, the United States recognized our obligation to care for our fellow Americans. Today, we must ensure this promise is protected for our parents, children, and grandchildren. On the 50th anniversary of Medicare and Medicaid, let us not be content with the progress we have made. Instead, let us summon the resolve of the generations that came before us and recommit to advancing this noble cause. Five decades from now, when people look back on this time, let it be said that our generation put its shoulder to the wheel and carried forward the work of making affordable health care a reality for all Americans.

NOW, THEREFORE, I, BARACK OBAMA, President of the United States of America, by virtue of the authority vested in me by the Constitution and the laws of the United States, do hereby proclaim July 30, 2015, as the 50th Anniversary of Medicare and Medicaid. I call upon all Americans to observe this day with appropriate ceremonies and activities that recognize the vital safety net that Medicare and Medicaid provide for millions of Americans.

IN WITNESS WHEREOF, I have hereunto set my hand this twenty-ninth day of July, in the year of our Lord two thousand fifteen, and of the Independence of the United States of America the two hundred and fortieth.

[FR Doc. 2015-19180

Filed 7-31-15; 11:15 am]

Billing code 3295-F5